DEPARTMENT OF COMMERCE

National Oceanic and Atmospheric Administration

[I.D. 071801B]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Management Team (CPSMT) will hold a public meeting.

DATES: The CPSMT will meet Tuesday, August 14, 2001 and Wednesday, August 15, 2001. On Tuesday, the CPSMT will meet from 8 a.m. to 5 p.m. On Wednesday, the CPSMT will meet from 8 a.m. until business for the day is completed.

ADDRESSES: The meeting will be held in the large conference room at NMFS Southwest Fisheries Science Center, 8604 La Jolla Shores Drive, Room D-203, La Jolla, CA 92038-0271; 858-546-7100.

Council address: Pacific Fishery Management Council, 7700 NE Ambassador Place, Suite 200, Portland, OR 97220-1384.

FOR FURTHER INFORMATION CONTACT: Mr. Dan Waldeck, Pacific Fishery Management Council; 503326-6352.

SUPPLEMENTARY INFORMATION: The primary purpose of the meeting is to review results from the Market Squid Maximum Sustainable Yield (MSY) Methodology Review Workshop. The CPSMT will consider how to incorporate the workshop panel’s recommended management alternatives for specifying market squid MSY (or MSY proxy) into the Coastal Pelagic Species Fishery Management Plan (FMP). The CPSMT will also review preliminary documents associated with Amendment 10 to the FMP.

Although nonemergency issues not contained in the meeting agenda may come before the CPSMT for discussion, those issues may not be the subject of formal CPSMT action during this meetings. CPSMT action will be restricted to those issues specifically listed in this notice and any issues arising after publication of this notice that require emergency action under section 305(c) of the Magnuson-Stevens Fishery Conservation and Management Act, provided the public has been notified of the CPSMT's intent to take final action to address the emergency.

Special Accommodations

This meeting is physically accessible to people with disabilities. Requests for sign language interpretation or other auxiliary aids should be directed to Ms. Carolyn Porter at 503-326-6352 at least 5 days prior to the meeting date.

Special Accommodations

Dated: July 25, 2001.
Dean Swanson,
Acting Director, Office of Sustainable Fisheries, National Marine Fisheries Service.

[FR Doc. 01-19059 Filed 7-30-01; 8:45 am]

BILLING CODE 3510-22-S